SMALL BUSINESS ADMINISTRATION

[License No. 02/02-0660]

GC SBIC V, L.P.; Surrender of License of Small Business Investment Company

Pursuant to the authority granted to the United States Small Business Administration under the Small Business Investment Act of 1958, as amended (“Act”), under Section 309 of the Act and 13 CFR Section 107.1900 of the Small Business Administration Rules and Regulations to function as a small business investment company under the Small Business Investment Company License No. 02/02-0660 issued to GC SBIC V, L.P., said license is hereby declared null and void.

United States Small Business Administration.
Thomas G. Morris,
Acting Associate Administrator, Director, Office of Liquidation, Office of Investment and Innovation.

[FR Doc. 2021-10263 Filed 5-14-21; 8:45 am]

BILLING CODE P